DEPARTMENT OF ENERGY

Federal Energy Regulatory Commission

Combined Notice of Filings #1

April 06, 2009.

Take notice that the Commission received the following electric corporate filings:

Docket Numbers: EC09-54-000.

Applicants: MACH Gen, LLC, New Athens Generating Company, LLC, New Harquahala Generating Company, LLC, Millennium Power Partners, LP, Strategic Value Partners, LLC.

Description: Amendment to Application of Strategic Value Partners, LLC, et al.

Filed Date: 03/31/2009.

Accession Number: 20090331-5227.

Comment Date: 5 p.m. Eastern Time on Friday, April 10, 2009.

Take notice that the Commission received the following electric rate filings:

Docket Numbers: ER99-2541-012; ER01-1764-009; ER01-3121-020; ER02-2085-014; ER02-417-019; ER02-418-019; ER03-1326-018; ER03-296-021; ER03-416-022; ER03-951-021; ER04-582-010; ER04-94-019; ER05-1146-019; ER05-1262-020; ER05-332-019; ER05-365-019; ER05-534-019; ER05-731-006; ER06-1093-016; ER06-200-018; ER07-1378-011; ER07-195-013; ER07-240-013; ER07-242-012; ER07-287-012; ER07-460-009; ER08-387-009; ER08-912-005; ER08-933-006; ER08-934-007; ER09-279-001; ER09-281-001; ER09-30-002; ER09-31-002; ER09-32-002; ER09-33-002; ER09-382-002; ER97-3553-008; ER97-3556-020; ER99-220-017; ER99-221-015; ER07-254-012; ER05-481-019; ER09-282-001.

Applicants: Carthage Energy, LLC; PEI Power II, LLC; Klamath Energy LLC; Northern Iowa Windpower LLC; Phoenix Wind Power LLC; Klamath Generation LLC; Colorado Green Holdings, LLC; Flying Cloud Power Partners, LLC; Klondike Wind Power II LLC; Moraine Wind LLC; Hartford Steam Company; Mountain View Power Partners III, LLC; Shiloh I Wind Project LLC; Flat Rock Windpower LLC; Klondike Wind Power II LLC; Elk River Windfarm LLC; Duke Energy Grays Harbor, LLC; Eastern Desert Power LLC; Central Maine Power Company; Flat Rock Windpower II, LLC; Big Horn Wind Project LLC; Providence Heights Wind, LLC; Locust Ridge Wind Farm, LLC; Twin Buttes Wind LLC; MinnDakota Wind LLC; Casselman Windpower, LLC; Klondike Wind Power III LLC; Dillion Wind LLC; Atlantic Renewable Projects II, LLC; Iberdrola Renewables, Inc.; Lempster Wind, LLC; Locust Ridge II, LLC; Buffalo Ridge I LLC; Pebble Springs Wind; Elm Creek Wind, LLC; Farmers City Wind, LLC; Barton Windpower LLC; Barton Windpower II LLC; Hay Canyon Wind LLC; Rochester Gas & Electric Corporation; Energetix, Inc.; NYSEG Solutions Inc; New York State Electric & Gas Corp; Trimont Wind I LLC; Moraine Wind II LLC.

Description: Notice of Non-Material Change in Status of Iberdrola Renovables, S.A., et al.

Filed Date: 04/01/2009.

Accession Number: 20090401-5215.

Comment Date: 5 p.m. Eastern Time on Wednesday, April 22, 2009.

Docket Numbers: ER00-136-000.

Applicants: FortisUS Energy Corporation.

Description: Motion of FortisUS Energy Corporation's Supplement to Notice of Non-Material Change in Status.

Filed Date: 04/03/2009.

Accession Number: 20090403-5097.

Comment Date: 5 p.m. Eastern Time on Friday, April 24, 2009.

Docket Numbers: ER01-48-014.

Applicants: Powerex Corp.

Description: Powerex Corp. submits an amendment to its existing market-based rate schedule, designated as Third Revised Rate Schedule No. 1.

Filed Date: 03/31/2009.

Accession Number: 20090403-0130.

Comment Date: 5 p.m. Eastern Time on Tuesday, April 21, 2009.

Docket Numbers: ER04-1181-004; ER04-1182-004; ER04-1184-004; ER04-1186-004.

Applicants: KGen Hinds LLC, KGen Hot Spring LLC, KGEN Murray I and II LLC, KGen Sandersville LLC.

Description: Notice of Change in Status of KGen Hinds LLC, KGen Hot Spring LLC, KGen Murray I and II LLC, and KGen Sandersville LLC.

Filed Date: 04/02/2009.

Accession Number: 20090402-5061.

Comment Date: 5 p.m. Eastern Time on Thursday, April 23, 2009.

Docket Numbers: ER06-613-007.

Applicants: ISO New England Inc. & New England Power.

Description: ISO New England Inc. submits report on the status of stakeholder consideration of the possible implementation in New England of a forward Ten Minute Spinning Reserve market.

Filed Date: 04/01/2009.

Accession Number: 20090403-0142.

Comment Date: 5 p.m. Eastern Time on Wednesday, April 22, 2009.

Docket Numbers: ER07-1106-003; ER01-1418-011; ER02-1238-011; ER03-28-005; ER03-398-012; ER06-744-005.

Applicants: ArcLight Energy Marketing, LLC, Effingham County Power, LLC, MPC Generating, LLC, Washington County Power, LLC, Walton County Power, LLC, Sabine Cogen, LP.

Description: Notice of Change in Status of ArcLight Energy Marketing, LLC, et al.

Filed Date: 04/03/2009.

Accession Number: 20090403-5110.

Comment Date: 5 p.m. Eastern Time on Friday, April 24, 2009.

Docket Numbers: ER07-1174-004; OA07-74-004.

Applicants: MATL LLP.

Description: MATL LLP submits a filing to comply with the Commission's 3/3/09 Order.

Filed Date: 04/02/2009.

Accession Number: 20090403-0136.

Comment Date: 5 p.m. Eastern Time on Thursday, April 23, 2009.

Docket Numbers: ER08-585-002.

Applicants: California Independent System Operator Corporation.

Description: California Independent System Operator Corporation submits Attachment A Clean Sheet Grid Management Charge Compliance filing et al.

Filed Date: 03/31/2009.

Accession Number: 20090403-0138.

Comment Date: 5 p.m. Eastern Time on Tuesday, April 21, 2009.

Docket Numbers: ER09-894-000.

Applicants: PacifiCorp.

Description: PacifiCorp. submits Third Revised Sheet 8 et al. to FERC Electric Tariff, 7th Revised Volume 11 First Revised Service Agreement 66.

Filed Date: 04/01/2009.

Accession Number: 20090403-0063.

Comment Date: 5 p.m. Eastern Time on Wednesday, April 22, 2009.

Docket Numbers: ER09-931-000.

Applicants: Kansas City Power & Light Company.

Description: Kansas City Power & Light Company submits amendatory agreement No. 3 to KCP&L's rate schedule FERC No. 90.

Filed Date: 04/01/2009.

Accession Number: 20090402-0187.

Comment Date: 5 p.m. Eastern Time on Wednesday, April 22, 2009.

Docket Numbers: ER09-932-000.

Applicants: ISO New England Inc. and New England Power Pool.

Description: ISO New England Inc. et al. submits amendment to the ISO Financial Assurance Policy for Market Participants that is Exhibit IA to Section I of the ISO tariff etc.

Filed Date: 04/01/2009.

Accession Number: 20090402-0186.

Comment Date: 5 p.m. Eastern Time on Wednesday, April 22, 2009.

Docket Numbers: ER09-933-000.

Applicants: Entergy Services, Inc.

Description: Entergy Services, Inc. submits ESI's Third Revised Rate Schedule No. 435.

Filed Date: 04/01/2009.

Accession Number: 20090402-0185.

Comment Date: 5 p.m. Eastern Time on Wednesday, April 22, 2009.

Docket Numbers: ER09-934-000.

Applicants: Bangor Hydro-Electric Company.

Description: Bangor Hydro-Electric Company submits revisions to Schedule 21-BHE of the ISO-New England tariff.

Filed Date: 04/01/2009.

Accession Number: 20090402-0176.

Comment Date: 5 p.m. Eastern Time on Wednesday, April 22, 2009.

Docket Numbers: ER09-935-000.

Applicants: California Independent System Operator Corporation.

Description: California Independent System Operator Corporation submits Transmission Access Charge Informational filing.

Filed Date: 04/01/2009.

Accession Number: 20090402-0177.

Comment Date: 5 p.m. Eastern Time on Wednesday, April 22, 2009.

Docket Numbers: ER09-936-000.

Applicants: Bangor Hydro-Electric Company.

Description: Bangor Hydro-Electric Company submits informational filing, updating Bangor Hydro's existing formula rate for charges that may become effective 6/1/09.

Filed Date: 04/01/2009.

Accession Number: 20090402-0175.

Comment Date: 5 p.m. Eastern Time on Wednesday, April 22, 2009.

Docket Numbers: ER09-939-000.

Applicants: Interstate Power and Light Company.

Description: Interstate Power and Light Co submits proposed changes re its book depreciation rates related to non-nuclear production service.

Filed Date: 04/01/2009.

Accession Number: 20090402-0184.

Comment Date: 5 p.m. Eastern Time on Wednesday, April 22, 2009.

Docket Numbers: ER09-940-000.

Applicants: Northern Virginia Electric Cooperative.

Description: Northern Virginia Electric Cooperative, Inc. submits revenue requirement with supporting testimony and data et al.

Filed Date: 04/01/2009.

Accession Number: 20090402-0183.

Comment Date: 5 p.m. Eastern Time on Wednesday, April 22, 2009.

Docket Numbers: ER09-941-000.

Applicants: Idaho Power Company.

Description: Idaho Power Company submits 3/2/09 Project Construction Agreement between Idaho Power Company and PacifiCorp.

Filed Date: 04/01/2009.

Accession Number: 20090402-0182.

Comment Date: 5 p.m. Eastern Time on Wednesday, April 22, 2009.

Docket Numbers: ER09-942-000.

Applicants: Astoria Generating Company, LP.

Description: Joint Request for limited one-time tariff waiver and for Commission action by 5/31/09.

Filed Date: 04/01/2009.

Accession Number: 20090402-0181.

Comment Date: 5 p.m. Eastern Time on Wednesday, April 22, 2009.

Docket Numbers: ER09-943-000.

Applicants: Southwest Power Pool, Inc.

Description: Southwest Power Pool submits revised pages to its Open Access Transmission Tariff to correct an administrative error resulting in the improper designation of certain Tariff sheets previously filed with, and accepted by the Commission.

Filed Date: 04/01/2009.

Accession Number: 20090402-0180.

Comment Date: 5 p.m. Eastern Time on Wednesday, April 22, 2009.

Docket Numbers: ER09-944-000.

Applicants: Southern California Edison Company.

Description: Southern California Edison submits revised rate sheets to the Agreement for Interconnection Service between SCE and Harbor Cogeneration Company, Service Agreement 2 under SCE's Transmission Owner Tariff, FERC Electric Tariff etc.

Filed Date: 04/01/2009.

Accession Number: 20090402-0179.

Comment Date: 5 p.m. Eastern Time on Wednesday, April 22, 2009.

Docket Numbers: ER09-945-000.

Applicants: New York Independent System Operator, Inc.

Description: New York Independent System Operator, Inc submits proposed revisions to its Market Administration and Control Area Services Schedule II to the OATT etc.

Filed Date: 04/01/2009.

Accession Number: 20090402-0188.

Comment Date: 5 p.m. Eastern Time on Wednesday, April 22, 2009.

Docket Numbers: ER09-946-000.

Applicants: Beech Ridge Energy LLC.

Description: Beech Ridge Energy LLC submits application of Beech Ridge for authorization to make market-based wholesale sales of energy, capacity, and ancillary services under Beech Ridge's FERC Electric Tariff 1 etc.

Filed Date: 04/02/2009.

Accession Number: 20090403-0147.

Comment Date: 5 p.m. Eastern Time on Thursday, April 23, 2009.

Docket Numbers: ER09-947-000.

Applicants: Public Service Company of New Mexico.

Description: Public Service Co of New Mexico submits two transmission service agreements with Southwestern Public Service Co.

Filed Date: 04/02/2009.

Accession Number: 20090403-0134.

Comment Date: 5 p.m. Eastern Time on Thursday, April 23, 2009.

Docket Numbers: ER09-948-000.

Applicants: Midwest Independent Transmission System Operator, Inc.

Description: Midwest Independent Transmission System Operator, Inc submits a Notice of Termination of Large Generator Interconnection Agreement.

Filed Date: 04/02/2009.

Accession Number: 20090403-0133.

Comment Date: 5 p.m. Eastern Time on Thursday, April 23, 2009.

Docket Numbers: ER09-949-000.

Applicants: Central Illinois Light Company, Central Illinois Public Service Company, Illinois Power Company.

Description: Ameren Illinois Utilities submits an Electric Resource Sharing Agreement for Capacity.

Filed Date: 04/02/2009.

Accession Number: 20090403-0132.

Comment Date: 5 p.m. Eastern Time on Thursday, April 23, 2009.

Docket Numbers: ER09-950-000.

Applicants: Xcel Energy Services, Inc.

Description: Public Service Co of Colorado submits a notice of cancellation of the Joint Load Control Area Agreement.

Filed Date: 04/02/2009.

Accession Number: 20090403-0131.

Comment Date: 5 p.m. Eastern Time on Thursday, April 23, 2009.

Docket Numbers: ER09-951-000.

Applicants: Xcel Energy Services Inc.

Description: Public Service Co of Colorado submits proposed revisions to the Xcel Energy Operating Companies Joint Open Access Transmission Tariff.

Filed Date: 04/02/2009.

Accession Number: 20090403-0135.

Comment Date: 5 p.m. Eastern Time on Thursday, April 23, 2009.

Docket Numbers: ER09-954-000.

Applicants: Ameren Services Company.

Description: Union Electric Company submits Original Service Agreement 2026 to FERC Electric Tariff, Third Revised Volume 1.

Filed Date: 04/03/2009.

Accession Number: 20090406-0045.

Comment Date: 5 p.m. Eastern Time on Friday, April 24, 2009.

Take notice that the Commission received the following open access transmission tariff filings:

Docket Numbers: OA09-24-000.

Applicants: Idaho Power Company.

Description: Idaho Power submits Unreserved use Penalty Distribution Compliance Filing.

Filed Date: 03/31/2009.

Accession Number: 20090403-0145.

Comment Date: 5 p.m. Eastern Time on Tuesday, April 21, 2009.

Take notice that the Commission received the following electric reliability filings:

Docket Numbers: RR07-16-005.

Applicants: North American Electric Reliability Corporation

Description: Additional Compliance Filing of the NERC in Response to October 18, 2007 Order—Comparisons of Budgeted to Actual Costs for 2008 for NERC and the Regional Entities; and Additional Compliance Items Concerning SPP Regional Entity.

Filed Date: 04/01/2009.

Accession Number: 20090401-5204.

Comment Date: 5 p.m. Eastern Time on Wednesday, April 22, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E9-8452 Filed 4-13-09; 8:45 am]

BILLING CODE 6717-01-P